DEPARTMENT OF HOMELAND SECURITY

Federal Emergency Management Agency

44 CFR Part 67

[Docket ID FEMA-2010-0003; Internal Agency Docket No. FEMA-B-1151]

Proposed Flood Elevation Determinations for Mercer County, North Dakota and Incorporated Areas

AGENCY: Federal Emergency Management Agency, DHS.

ACTION: Notice of proposed rulemaking; withdrawal.

SUMMARY: The Federal Emergency Management Agency (FEMA) is withdrawing its notice of proposed rulemaking concerning proposed flood elevation determinations for Mercer County, North Dakota and Incorporated Areas.

DATES: Effective Date: The notice of proposed rulemaking is withdrawn on May 13, 2014.

ADDRESSES: The docket for this withdrawn rulemaking is available for inspection or copying at 500 C St. SW., Washington, DC 20472.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On October 13, 2010, FEMA published a proposed rulemaking at 75 FR 62751, proposing flood elevation determinations along multiple flooding sources in Mercer County, North Dakota. FEMA is withdrawing the proposed rulemaking in order to provide the Expanded Appeals Process to each of the communities that have Special Flood Hazard Areas within Mercer County, North Dakota and Incorporated Areas.

Authority: 42 U.S.C. 4104; 44 CFR 67.4.

Dated: April 25, 2014.
Roy E. Wright,
Deputy Associate Administrator for Mitigation, Department of Homeland Security, Federal Emergency Management Agency.

[FR Doc. 2014-11004 Filed 5-12-14; 8:45 am]

BILLING CODE 9110-12-P